TENNESSEE VALLEY AUTHORITY

Sunshine Act Meeting

Agency Holding the Meeting: Tennessee Valley Authority (Meeting No. 1533).

Time and Date: 9 a.m. (CDT), August 22, 2001.

Place: Cedar Ridge Middle School Auditorium, 2715 Danville Road, SW., Decatur, Alabama.

Status: Open.

Agenda

Approval of minutes of meeting held on July 18, 2001.

New Business

B—Purchase Awards

B1. Contract with Allied Welding & Safety, LLC, for welding supplies and equipment.

B2. Supplement to contract with Shook and Fletcher Insulation Company to increase the total contract spending ceiling to $19.5 million for insulation materials and related products and authorize an additional two years to the contract term.

C—Energy

C1. Supplement to Contract No. 99999906 with Holtec International, Inc., for an independent spent fuel storage installation and dry cask storage system for Browns Ferry Nuclear Plant and delegation of authority to the Senior Vice President, Procurement, or a designee, to further supplement the contract by adding construction and other activities to the scope of the work.

E—Real Property Transaction

E1. Grant of 30-year easement for a natural gas pipeline to BAMAGAS Company and modification of existing term easements affecting Tract Nos. XPR-463P, XPR-178P, XPR-179P, XPR-180P, XPR-181P, XPR-334P, XPR-335P, XPR-336P, XPR-337P, XPR-442P, XPR-443P, XPR-444P, XWR-338P, XWR-389P, XWR-390P, XWR-392P, XWR-395P, XWR-510P, XWR-570P located on Pickwick and Wheeler Reservoirs in Colbert, Lawrence, Morgan, and Limestone Counties, Alabama.

F—Other

F1. Approval to file a condemnation case to acquire a transmission line easement and right-of-way, affecting Tract No. MRFS-116, the Murfreesboro-Smyrna No. 2 line in Rutherford County, Tennessee.

Information Items

1. Concurrence by the individual members of the Board of Directors for the issuance of TVA Power Bonds and the execution of a currency swap agreement with Morgan Stanley Capital Services, Inc.

2. Approval for sale and leaseback or lease and leaseback of eight combustion turbines being purchased for the Lagoon Creek Combustion Turbine Plant.

3. Approval of Wilshire Associates Incorporated as a new investment manager for the TVA Retirement System and approval of the Investment Management Agreement between the Retirement System and this new investment manager.

For more information: Please call TVA Media Relations at (865) 632-6000, Knoxville, Tennessee. Information is also available at TVA's Washington Office (202) 898-2999. People who plan to attend the meeting and have special needs should call (865) 632-6000.

Dated: August 15, 2001.
Maureen H. Dunn,
General Counsel and Secretary.

[FR Doc. 01-20997 Filed 8-16-01; 11:35 am]

BILLING CODE 8120-02-M